DEPARTMENT OF HEALTH AND HUMAN SERVICES

Centers for Disease Control and Prevention

Advisory Committee for Injury Prevention and Control

In accordance with section 10(a)(2) of the Federal Advisory Committee Act (Pub. L. 92-463), the Centers for Disease Control and Prevention (CDC) announces the following subcommittee and committee meetings.

The Science and Program Review Subcommittee (SPRS) and the Advisory Committee for Injury Prevention and Control (ACIPC) will meet to evaluate and discuss applications for Program Announcement Numbers 03077, Community-Based Interventions to Reduce Motor Vehicle-Related Injuries; 03100, Research to Improve Smoke Alarm Maintenance and Function; 03106, Development and Validation of Measures to Assess Outcomes of Mild Traumatic Brain Injury; and Small Business Innovation Research applications reviewed by the National Institutes of Health.

Name: Science and Program Review Subcommittee to ACIPC.

Time and Dates: 2 p.m.-3:10 p.m., August 18, 2003.

Place: Koger, Yale Building, Room 2054, 2495 Flowers Road, Atlanta, Georgia 30341.

Status: Open: 2 p.m.-2:10 p.m., August 18, 2003. Closed: 2:20 p.m.-3:10 p.m., August 18, 2003.

Purpose: The Subcommittee provides advice on the needs, structure, progress, and performance of the National Center for Injury Prevention and Control (NCIPC) programs. The Subcommittee provides second-level scientific and programmatic review for applications for research grants, cooperative agreements, and training grants related to injury control and violence prevention, and recommends approval of projects that merit further consideration for funding support. The Subcommittee also advises on priorities for research to be supported by contracts, grants, and cooperative agreements and provides concept review of program proposals and announcements.

Matters To Be Discussed: Agenda items for the open portion of the oversight include information about upcoming meetings. Beginning at 2:20 p.m., August 18, 2003, through 3:10 p.m., the Subcommittee will conduct the secondary review in closed session. The secondary review will include discussion and evaluation of results of the Disease, Disability, and Injury Prevention and Control Special Emphasis Panel's deliberations of applications in response to Program Announcements #03077, Community-Based Interventions to Reduce Motor Vehicle-Related Injuries; #03100, Research to Improve Smoke Alarm Maintenance and Function; and #03106, Development and Validation of Measures to Assess Outcomes of Mild Traumatic Brain Injury. The secondary review will also include discussion and evaluation of Small Business Innovation Research applications reviewed by the National Institutes of Health. This portion of the meeting will be closed to the public in accordance with provisions set forth in section 552b(c)(4) and (6), title 5 U.S.C., and the Determination of the Director, Management Analysis and Services Office, CDC, pursuant to Public Law 92-463.

Name: Advisory Committee for Injury Prevention and Control.

Time and Dates: 3:15 p.m.-4 p.m., August 18, 2003.

Place: Koger/Yale Building, Room 2054, 2495 Flowers Road, Atlanta, Georgia 30341.

Status: Open: 3:15 p.m.-3:35 p.m., August 18, 2003. Closed: 3:35 p.m.-4:00 p.m., August 18, 2003.

Purpose: The committee advises and makes recommendations to the Secretary, Health and Human Services, the Director, CDC, and the Director, NCIPC, regarding feasible goals for the prevention and control of injury. The committee makes recommendations regarding policies, strategies, objectives, and priorities, and reviews progress toward injury prevention and control. The committee provides advice on the appropriate balance of intramural and extramural research, and also provides guidance on the needs, structure, progress and performance of intramural programs, and on extramural scientific program matters. The committee provides second-level scientific and programmatic review for applications for research grants, cooperative agreements, and training grants related to injury control and violence prevention, and recommends approval of projects that merit further consideration for funding support. The committee also recommends areas of research to be supported by contracts and cooperative agreements and provides concept review of program proposals and announcements.

Matters To Be Discussed: Agenda items for the open portion includes an update on Center activities. Beginning at 3:35 p.m., August 18, 2003, through 4 p.m., during the closed portion, the committee will vote on results of the secondary review. This portion of the meeting will be closed to the public in accordance with provisions set forth in section 552b(c)(4) and (6), title 5 U.S.C., and the Determination of the Director, Management Analysis and Services Office, CDC, pursuant to Public Law 92-463. Agenda items are subject to change as priorities dictate.

Contact Person for More Information: Ms. Louise Galaska, Executive Secretary, ACIPC, NCIPC, CDC, 4770 Buford Highway, NE., M/S K02, Atlanta, Georgia 30341-3724, telephone 770/488-4694.

Due to programmatic issues that had to be resolved, the Federal Register notice is being published less than fifteen days before the date of the meeting.

The Director, Management Analysis and Services Office, has been delegated the authority to sign Federal Register notices pertaining to announcements of meetings and other committee management activities, for both CDC and the Agency for Toxic Substances and Disease Registry.

Dated: August 5, 2003.
Alvin Hall,
Director, Management Analysis and Services Office, Centers for Disease Control and Prevention.

[FR Doc. 03-20482 Filed 8-11-03; 8:45 am]

BILLING CODE 4163-18-P